FEDERAL TRADE COMMISSION

Transfer of Delegations of Authority To Disclose Certain Nonpublic Information to Foreign Law Enforcement Agencies and To Sign Confidentiality Agreements With Certain Foreign Agencies

AGENCY: Federal Trade Commission.

ACTION: Transfer of delegation of authority.

SUMMARY: The Commission has delegated authority to share information with certain law enforcement agencies in Canada, Australia, the United Kingdom, Ireland, Mexico, Costa Rica, and Spain to the Director of the Bureau of Consumer Protection. The Commission has also delegated to the Director of International Affairs authority to execute confidentiality agreements with certain foreign agencies, as a condition of their being granted access to nonpublic databases. These delegations include authority previously delegated to the Associate Director for International Consumer Protection.

EFFECTIVE DATE: February 26, 2007.

FOR FURTHER INFORMATION CONTACT: Lisa M. Harrison, Attorney, Office of the General Counsel, Federal Trade Commission, 600 Pennsylvania Avenue, NW., Washington, DC 20580, (202) 326-3204, lharrison@ftc.gov, or Michael L. Shore, Attorney, Office of International Affairs, Federal Trade Commission, 600 Pennsylvania Avenue, NW., Washington, DC 20580, (202) 326-2708, mshore@ftc.gov.

SUPPLEMENTARY INFORMATION: Notice is hereby given, pursuant to Reorganization Plan No. 4 of 1961, 26 FR 6191, that the Commission has transferred from the Associate Director for International Consumer Protection to the Director of the Bureau of Consumer Protection (BCP Director) its prior delegations of authority to: (1) Disclose to Canadian law enforcement agencies, information regarding consumer protection investigations involving Canadian businesses or consumers (67 FR 45738-01 (July 10, 2002)); (2) disclose to the Australian Competition and Consumer Commission, information regarding consumer protection investigations involving Australian businesses or consumers (67 FR 45738-01 (July 10, 2002)); (3) disclose to Australian law enforcement agencies, information contained in the Consumer Sentinel database of consumer complaints and law enforcement information (67 FR 45738-01 (July 10, 2002)); (4) disclose to the United Kingdom Office of Fair Trading and the United Kingdom Directorate for Trade and Industry, information regarding consumer protection investigations involving U.K. businesses or consumers (67 FR 45738-01 (July 10, 2002)); (5) disclose to Ireland's Office of the Director of Consumer Affairs, information regarding consumer protection investigations involving Ireland (68 FR 60107-01 (Oct. 21, 2003)); (6) disclose to Mexico's Procuraduría Federal del Consumidor, information regarding consumer protection matters involving Mexico (70 FR 6442-01 (Feb. 7, 2005)); (7) disclose to Costa Rica's Ministry of Economy, Industry, and Commerce, information regarding consumer protection matters involving Costa Rica (71 FR 14895-01 (Mar. 24, 2006)); (8) disclose to the United Kingdom's Office of Fair Trading, the United Kingdom's Information Commissioner, Her Majesty's Secretary of State for Trade and Industry in the United Kingdom, the Australian Competition and Consumer Commission, and the Australian Communications Authority, information regarding commercial e-mail investigations that involve consumers, businesses, commerce or markets in the United Kingdom or Australia (69 FR 44008-01 (July 23, 2004)); and (9) disclose to Spain's Agencia Espanola de Proteccion de Datos, information regarding commercial e-mail investigations that involve consumers, businesses, commerce or markets in Spain (70 FR 12487-03 (Mar. 14, 2005)). The BCP Director's authority may be redelegated.

This delegated authority does not apply to competition-related investigations. This delegated authority includes the authority to respond to disclosure and other requests within the ambit of any memorandum of understanding or agreement concerning consumer protection cooperation between the Commission and an agency listed or described in this notice or within the ambit of any agreement concerning consumer protection cooperation between the United States and any country listed in this notice. For this delegated authority, “consumer protection investigations involving businesses or consumers” of a country, “consumer protection investigations involving” a country and “consumer protection matters involving” a country shall include any consumer protection investigation or matter involving that country or with a nexus to any person, entity, commerce, or market in that country. The phrase “commercial e-mail investigations that involve consumers, businesses, commerce or markets in” a country shall include any commercial e-mail investigation or matter involving that country or with a nexus to any person, entity, commerce, or market in that country.

When exercising its delegated authority, the BCP Director will require assurances of confidentiality from the relevant foreign law enforcement agency. Disclosures shall be made only to the extent consistent with limitations on disclosure including, where applicable, sections 6(f) and 21 of the FTC Act, 15 U.S.C. 46(f) and 57b-2 (as amended by sections 4(a) and 6(a) of the U.S. SAFE WEB Act of 2006, Public Law 109-455, 120 Stat. 3372, 3372-73 and 3376-77), Commission Rule 4.10(d), 16 CFR 4.10(d), and with the Commission's enforcement policies and other important interests. Where the subject matter of the information to be shared raises significant policy concerns, the BCP Director shall notify the Commission before disclosing such information. In addition, the Commission has transferred from the Associate Director for International Consumer Protection to the Director of the Office of International Affairs (OIA Director) its prior delegations of authority to execute econsumer.gov confidentiality agreements with consumer protection authorities from current or future International Consumer Protection and Enforcement Network (ICPEN) member countries, and to execute Consumer Sentinel confidentiality agreements with any foreign law enforcement agency whose access has been authorized or is authorized in the future by the Commission or by the Commission's delegate, including without limitation Canadian and Australian law enforcement agencies (67 FR 45738-01 (July 10, 2002)). When exercising its delegated authority, the OIA Director will require assurances of confidentiality from the relevant foreign law enforcement agency. The OIA Director's authority under these delegations may be redelegated.

By direction of the Commission.
Donald S. Clark,
Secretary.

[FR Doc. E7-3719 Filed 3-1-07; 8:45 am]

BILLING CODE 6750-01-P